DEPARTMENT OF DEFENSE

Department of the Navy

Notice of Intent To Grant Partially Exclusive License; Autoliv, Inc.

AGENCY: Department of the Navy, DOD.

ACTION: Notice.

SUMMARY: The Department of the Navy gives notice of its intent to grant Autoliv, Inc., a revocable, nonassignable, partially exclusive license, with exclusive field of use in airbag inflators, in the United States to practice the Government-Owned invention, U.S. Patent Number 6,562,160 B2 entitled “Airbag Propellant.”

DATES: Anyone wishing to object to the grant of this license must file written objections along with supporting evidence, if any, not later than April 9, 2005.

ADDRESSES: Written objections are to be filed with Indian Head Division, Naval Surface Warfare Center, Code CAB, 101 Strauss Avenue, Indian Head, MD 20640-5035.

FOR FURTHER INFORMATION CONTACT: Dr. J. Scott Deiter, Head, Technology Transfer Office, Naval Surface Warfare Center Indian Head Division, Code CAB, 101 Strauss Avenue, Indian Head, MD 20640-5035, telephone (301) 744-6111.

Dated: March 10, 2005.
I.C. Le Moyne Jr.,
Lieutenant, Judge Advocate General's Corps, U.S. Navy, Alternate Federal Register Liaison Officer.

[FR Doc. 05-5150 Filed 3-15-05; 8:45 am]

BILLING CODE 3810-FF-P